DEPARTMENT OF TRANSPORTATION

Federal Aviation Administration

Notice of Approval of Finding of No Significant Impact (FONSI) on a Final Environmental Assessment (Final EA); Southern Illinois Airport, Carbondale-Murphysboro, IL

AGENCY: Federal Aviation Administration (FAA), DOT.

ACTION: Notice of approval of documents.

SUMMARY: The Federal Aviation Administration (FAA) is issuing this notice to advise the public of the approval of a Finding of No Significant Impact (FONSI) on an Environmental Assessment for proposed Federal actions at Southern Illinois Airport, Carbondale-Murphysboro, Illinois. The FONSI specifies that the proposed federal actions and local development projects are consistent with existing environmental policies and objectives as set forth in the National Environmental Policy Act of 1969 and will not significantly affect the quality of the environment.

A description of the proposed Federal actions is: (a) To issue an environmental finding to allow approval of the Airport Layout Plan (ALP) for the development items listed below; (b) Approval of the Airport Layout Plan (ALP) for the development items listed below; and (c) Establish eligibility of the Southern Illinois Airport Authority to compete for Federal funding for the development projects depicted on the Airport Layout Plan.

The specific items in the local airport development project include: Acquisition of approximately 210 acres of land in fee simple title including relocation assistance for one (1) residence; Widening of the existing Runway 18R/36L by 15 feet and construction of a 500-foot extension to Runway 36L to provide a total runway dimension of 4,000 feet × 75 feet. This action includes all appropriate grading and drainage; Extension and widening of the existing parallel taxiway to Runway 18R/36L to serve the extended runway threshold; Construction of new airport facilities in the western and northwestern airfield quadrants. This action includes the construction of a new west side entrance roadway system; creation of a new GPS non-precision Standard Instrument Approach Procedures (SIAP) for Runways 18R, 36L, and 36; relocation of portions of Airport Road, Fox Farm Road and the Airport Entrance Road to allow for the initiation of new non-precision instrument approach procedures for Runways 36L and 36R; relocation of a portion of Fox Farm Road to remove the facility from within the Runway Protection Zone (RPZ) for Runway 06; relocation of the existing Visual Approach Descent Indicator (VADI) lights and associated wind cone to serve the relocated Runway 36L threshold; installation of Medium Intensity Runway Lights (MIRL) on the extended and widened runway; installation of Medium Intensity Taxiway Lights (MITL) on the extended on widened taxiway; relocation of a portion of the Southern Illinois Power Company's electric lines to allow for the new SIAPs to Runways 36L and 36; removal of obstructions in the approaches to Runways 06 and 18L; mitigation of impacts to 2.7 acres of wetlands; and the approval of the Southern Illinois ALP.

Copies of the environmental decision and the Final EA are available for public information review during regular business hours at the following locations:

1. Southern Illinois Airport, 665 North Airport Road, Murphysboro, Illinois 62966.

2. Division of Aeronautics-Illinois Department of Transportation, One Langhorne Bond Drive, Capital Airport, Springfield, IL 62707.

3. Chicago Airports District Office, Room 320, Federal Aviation Administration, 2300 East Devon Avenue, Des Plaines, Illinois 60018.

FOR FURTHER INFORMATION, CONTACT: E. Lindsay Butler, Airports Environmental Program Manager, Federal Aviation Administration, Chicago Airports District Office, Room 320, 2300 East Devon Avenue, Des Plaines, Illinois 60018. Ms. Butler can be contacted at (847) 294-7723 (voice), (847) 294-7046 (facsimile) or by e-mail at lindsay.butler@faa.gov.

Issued in Des Plaines, Illinois on February 15, 2006.
Larry H. Ladendorf,
Acting Manager, Chicago Airports District Office, FAA, Great Lakes Region.

[FR Doc. 06-2913 Filed 3-24-06; 8:45 am]

BILLING CODE 4910-13-M